DEPARTMENT OF COMMERCE

National Oceanic and Atmospheric Administration

RIN 0648-XF015

Fishing Capacity Reduction Program for the Bering Sea and Aleutian Islands (BSAI) King and Tanner Crab Fisheries

AGENCY: National Marine Fisheries Service (NMFS), National Oceanic and Atmospheric Administration (NOAA), Commerce.

ACTION: Notice of loan repayment.

SUMMARY: NMFS issues this notice to inform interested parties that the Aleutian Island Golden (Brown) King crab (a/k/a WAG and EAG) sub-loan in the fishing capacity reduction program for the Bering Sea and Aleutian Islands (BSAI) King and Tanner Crab Fisheries has been repaid. Therefore, buyback fee collections on Aleutian Island Golden (Brown) King crab will cease for all landings after October 31, 2016.

DATES: Comments must be submitted on or before 5 p.m. EST December 19, 2016.

ADDRESSES: Send comments about this notice to Paul Marx, Chief, Financial Services Division, NMFS, Attn: Aleutian Island Golden (Brown) King crab Buyback, 1315 East-West Highway, Silver Spring, MD 20910 (see FOR FURTHER INFORMATION CONTACT).

FOR FURTHER INFORMATION CONTACT: Michael A. Sturtevant at (301) 427-8799 or Michael.A.Sturtevant@noaa.gov.

SUPPLEMENTARY INFORMATION: On July 28, 2005, NMFS published a Federal Register document (69 FR 67100) proposing regulations to implement an industry fee system for repaying the reduction loan. The final rule was published September 16, 2005 (70 FR 54652) and fee collection began on October 17, 2005. Interested persons should review these for further program details.

The Aleutian Island Golden (Brown) King crab sub-loan of the Bering Sea and Aleutian Islands (BSAI) King and Tanner Crab Capacity Reduction (Buyback) loan in the amount of $6,380,837.19 will be repaid in full upon receipt of buyback fees on landings through October 31, 2016. NMFS has received $10,004,785.86 to repay the principal and interest on this sub-loan since fee collection began October 17, 2005. Based on buyback fees received to date, landings after October 31, 2016, will not be subject to the buyback fee. Therefore, buyback loan fees will no longer be collected in the Aleutian Island Golden (Brown) King crab fishery on future landings.

Buyback fees not yet forwarded to NMFS for Aleutian Island Golden (Brown) King crab landings through October 31, 2016, should be forwarded to NMFS immediately. Any overpayment of buyback fees submitted to NMFS will be refunded on a pro-rata basis to the fish buyers/processors based upon best available fish ticket landings data. The fish buyers/processors should return excess buyback fees collected to the harvesters, including buyback fees collected but not yet remitted to NMFS for landings after October 31, 2016. Any discrepancies in fees owed and fees paid must be resolved immediately. After the sub-loan is closed, no further adjustments to fees paid and fees received can be made.

Dated: November 28, 2016.
Brian Pawlak,
Director, Office of Management and Budget, National Marine Fisheries Service.

[FR Doc. 2016-28900 Filed 12-1-16; 8:45 am]

BILLING CODE 3510-22-P